DEPARTMENT OF JUSTICE

Notice of Proposed Partial Consent Decree Under the Comprehensive Environmental Response, Compensation, and Liability Act and the Clean Air Act

Notice is hereby given that on September 30, 2010, a proposed Partial Consent Decree in United States v. C.A.I., Inc., et al., Civil Action No. 1:10-cv-10390-GAO, was lodged with the United States District Court for the District of Massachusetts.

The proposed Partial Consent Decree will settle the United States' claims on behalf of the U.S. Environmental Protection Agency (“EPA”) against Defendant Arnel Company, Inc. (“Arnel”), pursuant to Section 107 of the Comprehensive Environmental Response, Compensation, and Liability Act (“CERCLA”), 42 U.S.C. 9607, and Section 112(r)(1) of the Clean Air Act (“CAA”), 42 U.S.C. 7412(r)(1), with respect to the Danversport Superfund Site, in Danvers, Massachusetts (“Site”). Pursuant to the Partial Consent Decree, based on a demonstration of limited financial resources, Arnel will pay $15,000, including $11,250 in response costs under CERCLA and $3,750 as a civil penalty under the CAA.

The Department of Justice will receive comments relating to the proposed Partial Consent Decree for a period of 30 days from the date of this publication. Comments on the Partial Consent Decree should be addressed to the Assistant Attorney General, Environment and Natural Resources Division, and either e-mailed to pubcomment-ees.enrd@usdoj.gov or mailed to P.O. Box 7611, U.S. Department of Justice, Washington, DC 20044-7611, and should refer to United States v. C.A.I., Inc., et al., Civil Action No. 1:10-cv-10390-GAO, D.J. Ref. 90-11-2-09184 & 90-11-2-09184/1.

The proposed Partial Consent Decree may be examined at the Office of the United States Attorney, One Courthouse Way, John Joseph Moakley Courthouse, Boston, Massachusetts 02210, and at U.S. EPA Region 1, Office of Regional Counsel, 5 Post Office Square, Suite 100, Boston, Massachusetts 02109. During the public comment period, the proposed Partial Consent Decree may also be examined at the following Department of Justice Web site: http://www.usdoj.gov/enrd/Consent_Decrees.html. A copy of the proposed Partial Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting a copy by mail from the Consent Decree Library, please enclose a check in the amount of $8.25 ($0.25 per page reproduction cost) payable to the U.S. Treasury or, if requesting by e-mail or fax, forward a check in that amount to the Consent Decree Library at the above-referenced address.

Maureen Katz,
Assistant Chief, Environmental Enforcement Section, Environment and Natural Resources Division.

[FR Doc. 2010-25590 Filed 10-8-10; 8:45 am]

BILLING CODE 4410-15-P